DEPARTMENT OF LABOR

Employment and Training Administration

[TA-W-52,925]

SKF USA, Inc., Altoona Division, Including Leased Workers of Motion Industries, Inc., Altoona, PA; Amended Certification Regarding Eligibility To Apply for Worker Adjustment Assistance and Alternative Trade Adjustment Assistance

In accordance with section 223 of the Trade Act of 1974 (19 U.S.C. 2273) the Department of Labor issued a Certification of Eligibility to Apply for Worker Adjustment Assistance and Alternative Trade Adjustment Assistance on November 3, 2003, applicable to workers of SKF USA, Inc., Altoona Division, Altoona, Pennsylvania. The notice was published in the Federal Register on November 28, 2003 (68 FR 66879).

At the request of the petitioners, the Department reviewed the certification for workers of the subject firm. New information shows that leased workers of Motion Industries, Inc. were employed at SKF USA, Inc., Altoona Division at the Altoona, Pennsylvania location of the subject firm.

Based on these findings, the Department is amending this certification to include leased workers of Motion Industries, Inc. working at SKF USA, Inc., Altoona Division, Altoona, Pennsylvania.

The intent of the Department's certification is to include all workers employed at SKF USA, Inc., Altoona Division, who were adversely affected by increased imports.

The amended notice applicable to TA-W-52,925 is hereby issued as follows:

All workers of SKF USA, Inc., Altoona Division, including leased workers of Motion Industries, Inc., Altoona, Pennsylvania, who became totally or partially separated from employment on or after September 11, 2002, through November 3, 2005, are eligible to apply for adjustment assistance under section 223 of the Trade Act of 1974, and are also eligible to apply for alternative trade adjustment assistance under section 246 of the Trade Act of 1974.

Signed at Washington, DC, this 17th day of February, 2004.
Linda G. Poole,
Certifying Officer, Division of Trade Adjustment Assistance.

[FR Doc. 04-4976 Filed 3-4-04; 8:45 am]

BILLING CODE 4510-30-P